DEPARTMENT OF THE INTERIOR

Office of the Secretary

[K00103 12/13 A3A10; 134D0102DR-DS5A300000-DR.5A311.IA000113]

43 CFR Part 4

RIN 1094-AA54

Hearing and Re-Petition Authorization Processes Concerning Acknowledgment of American Indian Tribes

AGENCY: Office of the Secretary, Interior.

ACTION: Proposed rule; extension of comment period.

SUMMARY: On June 19, 2014, we announced a proposed rule pertaining to hearings on negative proposed findings for Federal acknowledgment of Indian tribes. Our proposed rule is related to a Bureau of Indian Affairs (BIA) proposed rule. 79 FR 30766 (May 29, 2014). Requests for extension of the comment period were submitted for both proposed rules. Because BIA is extending the comment period for its proposed rule, we are extending the comment deadline for our proposed rule as well.

DATES: Comments on this rulemaking must be received by September 30, 2014.

ADDRESSES: You may submit comments by any of the following methods:

• Federal rulemaking portal: http://www.regulations.gov.

• Email: karl_johnson@oha.doi.gov. Include the number 1094-AA54 in the subject line.

• Mail or hand delivery: Mr. Karl Johnson, Office of Hearings and Appeals, Departmental Cases Hearing Division, U.S. Department of the Interior, 351 S. West Temple, Suite 6.300, Salt Lake City, UT 84101. Include the number 1094-AA54 on the envelope.

Please note that we will not consider or include in the docket for this rulemaking any comments received after the close of the comment period (see DATES) or any comments sent to an address other than those listed above.

FOR FURTHER INFORMATION CONTACT: Karl Johnson, Senior Attorney, Office of Hearing and Appeals, Departmental Case Hearings Division, (801) 524-5344; karl_johnson@oha.doi.gov.

SUPPLEMENTARY INFORMATION: On June 19, 2014, we announced in the Federal Register a proposed rule to establish procedures for a new category of hearing for petitioners who receive a negative proposed finding for Federal acknowledgment and request a hearing. See 79 FR 35129. The rule would also establish procedures for a new re-petition authorization process for petitioners whose petitions have been denied. This proposed rule is related to a BIA proposed rule that would revise processing of petitions for Federal acknowledgment of Indian tribes published on May 29, 2014 (79 FR 30766).

We and BIA both received requests for to extend the comment period on our proposed rules. In response to these requests, BIA is extending its comment period and we are also extending our comment deadline to match the new comment deadline for the BIA rule.

Dated: July 24, 2014.
Rhea Suh,
Assistant Secretary—Policy, Management and Budget.

[FR Doc. 2014-17954 Filed 7-29-14; 8:45 am]

BILLING CODE 4310-W7-P